DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 18, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Employment and Training Opportunities in the Supplemental Nutrition Assistance Program (SNAP).

OMB Control Number: 0584-0653.

Summary of Collection: In accordance with section 6(d)(4)(B)(i) of the Food and Nutrition Act of 2008 (FNA), as amended, and Supplemental Nutrition Assistance Program (SNAP) regulations at 7 CFR 273.7(e)(1) requires State agencies to provide case management services, such as comprehensive intake assessments, individualized service plans, progress monitoring or coordination with service providers to all SNAP Employment and Training (E&T) participants. SNAP Employment and Training Opportunities: The State E&T program must provide case management services such as comprehensive intake assessments, individualized service plans, progress monitoring, or coordination with service providers which are provided to all E&T participants. Case management services and activities must directly support an individual's participation in the E&T program and may include referrals to activities and supports outside of the E&T program, but State agencies can only use E&T funds for allowable components, activities, and participant reimbursements. The provision of case management services must not be an impediment to the participant's successful participation in E&T. If it's determined by case manager a mandatory E&T participant may meet an exemption from the requirement to participate in an E&T program, may have good cause for non-compliance with a work requirement, or both, the case manager must inform the appropriate State agency staff. Also, if the case manager is unable to identify an appropriate and available opening in an E&T component for a mandatory E&T participant, the case manager must inform the appropriate State agency staff.

To be considered acceptable by FNS, any component offered by a State agency must entail a certain level of effort by the participants. FNS may approve components that do not meet this guideline if it determines that such components will advance program goals. The State agency may require SNAP applicants to participate in any component it offers in its E&T program at the time of application. The State agency must screen applicants to determine if it is appropriate to participate in E&T in accordance with 273.7(c)(2), provide the applicant with participant reimbursements in accordance with (d)(4) of this section, and inform the applicant of E&T participation requirements including how to access the component and consequences for failing to participate. The State agency must not impose requirements that would delay the determination of an individual's eligibility for benefits or in issuing benefits to any household that is otherwise eligible. In accordance with section 6(o)(1)(C) of the Food and Nutrition Act of 2008 and § 273.24, supervised job search and job search training, when offered as components of an E&T program, are not qualifying activities relating to the participation requirements necessary to fulfill the ABAWD work requirement under § 273.24. However, job search, including supervised job search, or job search training activities, when offered as part of other E&T program components, are acceptable as long as those activities comprise less than half the total required time spent in the components. An E&T program offered by a State agency must include one or more of the following components: a supervised job search program, a job search training program, a workfare program, a work experience program, a supported work program, educational programs or activities to improve basic skills and build work readiness, and job retention services. Retention And Custody of Records. In accordance with § 272.1(f), State agencies are required to retain records concerning the frequency of noncompliance with FSP work requirements and the resulting disqualification actions imposed. These records must be available for inspection and audit at any reasonable time to ensure conformance with the minimum mandatory disqualification periods instituted.

Need and Use of the Information: The purpose of the case management services is to guide E&T participants towards appropriate E&T components and activities based on the participant's needs and interests, to support the participant in the E&T program and to provide activities and resources that will assist the participant toward self-sufficiency. State agencies may adopt different modes for the delivery of case management services, such as virtual, over the telephone, in-person or hybrid approach. This information will be used to better administer the SNAP E&T Program and provide improved customer service to SNAP E&T participants. If the Department does not require State agencies to conduct case management services, the Department will be out of compliance with Federal law.

Description of Respondents: State, Local, Tribal Government, Individuals, Households.

Number of Respondents: 375,053.

Frequency of Responses: Recordkeeping; Reporting: Occasionally; Annually.

Total Burden Hours: 1,431,364.

Rachelle Ragland-Greene,
Acting Departmental Information Collection Clearance Officer.

[FR Doc. 2024-05759 Filed 3-18-24; 8:45 am]

BILLING CODE 3410-30-P